POSTAL REGULATORY COMMISSION

[Docket No. MC2022-57; Order No. 6168]

Mail Classification Schedule

AGENCY: Postal Regulatory Commission.

ACTION: Notice.

SUMMARY: The Commission is recognizing a recent Postal Service filing requesting minor corrections to the International Money Transfer Service (IMTS)—Inbound product description in the Mail Classification Schedule. The changes are intended to take effect on two dates: When this docket is concluded and on October 1, 2022. This notice informs the public of the filing, invites public comment, and takes other administrative steps.

DATES: Comments are due: June 6, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Notice of Commission Action

IV. Ordering Paragraphs

I. Introduction

On May 6, 2022, the Postal Service filed a notice of minor corrections to the International Money Transfer Service (IMTS)—Inbound product description in the Mail Classification Schedule (MCS) pursuant to 39 CFR 3040.190(b).¹ The Postal Service seeks to remove certain countries from the list of countries in MCS subsection 2625.2 consistent with certain Postal Bulletin notices. Notice at 1. The changes are intended to take effect on two dates: When this docket is concluded and on October 1, 2022. Id. at 2.

¹ Notice of United States Postal Service of Filing Minor Corrections to the Product Description of International Money Transfer Service—Inbound, May 6, 2022 (Notice).

II. Summary of Changes

The Postal Service proposes two corrections to MCS section 2625.2, which lists the countries where IMTS-Inbound is offered. First, it requests that the Commission remove Japan from the list of countries when this docket is concluded because the Postal Service terminated the exchange of international postal money orders with Japan Post. Id. Second, the Postal Service proposes to remove the Bahamas, Barbados, British Virgin Islands, Dominica, Montserrat, St. Kitts, and St. Vincent from the list of countries effective October 1, 2022, because it will stop cashing international postal money orders issued by the postal operators of those countries. Id. The Postal Service asserts that the Notice satisfies the requirements of 39 CFR 3040.190(c) because the proposed corrections are consistent with applicable authorities and do not constitute material changes to the IMTS-Inbound product description. Id. The Notice includes a copy of the affected sections of the MCS with the proposed changes in legislative format, which the Postal Service contends satisfies 39 CFR 3040.190(c)(3). Id. Attachment—Mail Classification Schedule.

III. Notice of Commission Action

Pursuant to 39 CFR 3040.191, the Commission has posted the Notice on its website and invites comments on whether the Postal Service's filings are consistent with the policies and applicable criteria of chapter 36 of title 39 of the United States Code, 39 CFR 3040.190-192, and any applicable Commission directives and orders. Comments are due no later than June 6, 2022. The filing can be accessed via the Commission's website (http://www.prc.gov).

The Commission appoints Joseph K. Press to represent the interests of the general public (Public Representative) in this docket.

IV. Ordering Paragraphs

It is ordered:

1. The Commission establishes Docket No. MC2022-57 to consider matters raised by the Notice.

2. Comments by interested persons are due by June 6, 2022.

3. Pursuant to 39 U.S.C. 505, Joseph K. Press is appointed to serve as an officer of the Commission (Public Representative) to represent the interests of the general public in this proceeding.

4. The Commission directs the Secretary of the Commission to arrange for prompt publication of this order in the Federal Register.

By the Commission.
Erica A. Barker,
Secretary.

[FR Doc. 2022-10324 Filed 5-12-22; 8:45 am]

BILLING CODE 7710-FW-P